DEPARTMENT OF ENERGY

Federal Energy Regulatory Commission

[Docket No. IC12-17-000]

Commission Information Collection Activities (FERC-714); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-714 (Annual Electric Balancing Authority Area and Planning Area Report) to the Office of Management and Budget (OMB) for review of the information collection requirements. Any interested person may file comments directly with OMB and should address a copy of those comments to the Commission as explained below. The Commission issued a Notice in the Federal Register (77 FR 53878, 9/4/2012) requesting public comments. FERC received no comments on the FERC-714 and is making this notation in its submittal to OMB.

DATES: Comments on the collection of information are due by December 20, 2012.

ADDRESSES: Comments filed with OMB, identified by the OMB Control No. 1902-0140, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-17-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-714, Annual Electric Balancing Authority Area and Planning Area Report.

OMB Control No.: 1902-0140.

Type of Request: Three-year extension of the FERC-714 information collection requirements with no changes to the reporting requirements.

Abstract: The Federal Power Act authorizes the Commission to collect information from electric utility balancing authorities and planning areas in the United States. 18 CFR 141.51 mandates the data collection.

The Commission uses the collected data to analyze power system operations along with its regulatory functions. These analyses estimate the effect of changes in power system operations resulting from the installation of a new generating unit or plant, transmission facilities, energy transfers between systems, and/or new points of interconnections. Also, these analyses serve to correlate rates and charges, assess reliability and other operating attributes in regulatory proceedings, monitor market trends and behaviors, and determine the competitive impacts of proposed mergers, acquisitions, and dispositions.

Type of Respondents: Electric utilities operating balancing authority areas and planning areas with annual peak demand over 200 MW.

Estimate of Annual Burden: ¹ The Commission estimates the total Public Reporting Burden for this information collection as:

¹ Burden is defined as the total time, effort, or financial resources expended by persons to generate, maintain, retain, or disclose or provide information to or for a Federal agency. For further explanation of what is included in the information collection burden, reference 5 Code of Federal Regulations 1320.3.

FERC-714 (IC12-17-000)—Annual Transmission Planning and Evaluation Report
Number of respondents | Number of responses per respondent | Total number of responses | Average burden hours per response | Estimated total annual burden
(A) | (B) | (A) × (B) = (C) | (D) | (C) × (D)
219 | 1 | 219 | 87 | 19,053

The total estimated annual cost burden to respondents is $2,995,016 [19,053 hours ÷ 2,080 ² hours/year = 9.16009 * $143,540/year ³ = $1,314,839.32].

² 2080 hours/year = 40 hours/week * 52 weeks/year.

³ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 14, 2012.
Kimberly D. Bose,
Secretary.

[FR Doc. 2012-28152 Filed 11-19-12; 8:45 am]

BILLING CODE 6717-01-P